DEPARTMENT OF AGRICULTURE

36 CFR Part 251

RIN 0596-AC87

Management of National Forest System Surface Resources With Privately Held Mineral Estates

AGENCY: Forest Service, USDA.

ACTION: Proposed rule; reopening of public comment period.

SUMMARY: In order to allow interested parties additional time to review and provide comments about issues of law and policy raised in this proposed rulemaking, the Forest Service is reopening the comment period for 30 days for the advance notice of proposed rulemaking for the “Management of National Forest System Surface Resources with Privately Held Mineral Estates”. The rule would revise the regulations to provide clarity and direction on the management of National Forest System surface resources when the mineral estate is privately held. The Forest Service invites written comments on this advance notice. The original notice called for comments to be submitted by February 27, 2009.

DATES: The comment period for the proposed rule published December 29, 2008 (73 FR 79424), is reopened. Comments must be received in writing by April 13, 2009.

ADDRESSES: Written comments concerning this advance notice of proposed rulemaking notice should be addressed to Forest Service, USDA, attn: Director, Minerals and Geology Management, at Mail Stop 1126, Washington, DC 20250-1126; by electronic mail to 36cfr251@fs.fed.us; or by fax to (703) 605-1575; or by the electronic process available at Federal e-Rulemaking portal at http://www.regulations.gov. All comments, including names and addresses when provided, are placed in the record and are available for public inspection and copying. The public may inspect comments received at 1601 N. Kent Street, Suite 500 Arlington, Virginia 22209 during regular business hours (8:30 a.m. to 4 p.m.), Monday through Friday, except holidays. Visitors are encouraged to call ahead to (703) 605-4792 to facilitate entry to the building.

FOR FURTHER INFORMATION CONTACT: Ivette E. Torres, Liaison Specialist, Minerals and Geology Management. Phone Number: (703) 605-4792, or (703) 615-7813. E-mail: ietorres@fs.fed.us.

Individuals who use telecommunication devices for the deaf (TDD) may call the Federal Information Relay Service (FIRS) at 1-800-877-8339 between 8 a.m. and 8 p.m., Eastern Standard Time, Monday through Friday.

Dated: March 5, 2009.
Abigail R. Kimball,
Chief, Forest Service.

[FR Doc. E9-5318 Filed 3-11-09; 8:45 am]

BILLING CODE 3410-11-P